DEPARTMENT OF HEALTH AND HUMAN SERVICES

Centers for Medicare & Medicaid Services

42 CFR Parts 447 and 455

[CMS-2198-CN]

RIN 0938-AN09

Medicaid Program; Disproportionate Share Hospital Payments

AGENCY: Centers for Medicare & Medicaid Services (CMS), HHS.

ACTION: Correction of proposed rule.

SUMMARY: This document corrects a technical error that appeared in the proposed rule published in the Federal Register on August 26, 2005 entitled “Medicaid Program; Disproportionate Share Hospital Payments.”

FOR FURTHER INFORMATION CONTACT: Jim Frizzera, (410) 786-9535.

SUPPLEMENTARY INFORMATION:

I. Background

In FR Doc. 05-16974 of August 26, 2005 (70 FR 50262), we inadvertently omitted a sample Excel spreadsheet that displays the reporting requirements described in section III.A. of the proposed rule.

II. Correction of Errors

In FR Doc. 05-16974 of August 26, 2005 (70 FR 50262), we are making the following correction:

On page 50264, third column, after the first full paragraph, add the following Excel spreadsheet:

BILLING CODE 4120-01-P

(Catalog of Federal Domestic Assistance Program No. 93.778, Medical Assistance Program)

Dated: September 20, 2005.
Ann C. Agnew,
Executive Secretary to the Department.

[FR Doc. 05-19051 Filed 9-22-05; 8:45 am]

BILLING CODE 4120-01-C